Title 3—

The President

Proclamation 8132 of April 24, 2007

Malaria Awareness Day, 2007

By the President of the United States of America

A Proclamation

Americans are fortunate to live in a land that eliminated malaria decades ago. Today, our country helps fight this disease in Africa, because we believe in the timeless truth: To whom much is given, much is required. On Malaria Awareness Day, we renew our commitment to helping combat malaria in Africa and around the world.

Tragically, one child in Africa dies every 30 seconds from malaria, a disease that is highly treatable and preventable. To reduce malaria's mortality rate in the hardest-hit African countries, I announced the President's Malaria Initiative in 2005, a five-year, $1.2 billion program. At last year's White House Summit on Malaria, Laura and I were pleased to announce the expansion of this initiative to several additional countries. These efforts are making a difference, and millions of people have already benefited from insecticide-treated bed nets, indoor spraying, and anti-malaria medicine.

Across our Nation, Americans are answering the call to act. By simply donating an insecticide-treated bed net, one individual can help save a life. For more information about how to help and for a list of humanitarian organizations, visit fightingmalaria.gov.

Americans are a compassionate people who care deeply about the plight of others and the future of our world, and we can all be proud of the work our Nation is doing to fight disease and despair. By standing with the people of Africa in the fight against malaria, we can help lift a burden of unnecessary suffering, provide hope and health, and forge lasting friendships.

NOW, THEREFORE, I, GEORGE W. BUSH, President of the United States of America, by virtue of the authority vested in me by the Constitution and laws of the United States, do hereby proclaim April 25, 2007, as Malaria Awareness Day. I encourage Americans to answer the universal call to love a neighbor and join in our goal of eradicating malaria on the African continent.

IN WITNESS WHEREOF, I have hereunto set my hand this twenty-fourth day of April, in the year of our Lord two thousand seven, and of the Independence of the United States of America the two hundred and thirty-first.

[FR Doc. 07-2136

Filed 4-27-07; 8:45 am]

Billing code 3195-01-P